ENVIRONMENTAL PROTECTION AGENCY

40 CFR Part 52

[R09-OAR-2005-CA-0004; FRL-7932-3]

Correction to the California State Implementation Plan, South Coast Air Quality Management District

AGENCY: Environmental Protection Agency (EPA).

ACTION: Direct final rule.

SUMMARY: EPA is taking direct final action to delete a provision from the California State Implementation Plan (SIP) that was approved into the SIP in error. This provision is part of a rule concerning emissions of volatile organic compounds (VOC) from solvent cleaning operations. EPA has determined that the continued presence of this provision in the SIP is potentially confusing and thus harmful to affected sources, local agencies and to EPA. The intended effect of this action is to delete this provision and make the federally enforceable SIP consistent with the SIP as adopted and submitted by the State of California.

DATES: This rule is effective on August 30, 2005 without further notice, unless EPA receives adverse comments by August 1, 2005. If we receive such comments, we will publish a timely withdrawal in the Federal Register to notify the public that this direct final rule will not take effect.

ADDRESSES: Submit comments, identified by docket number [DOCKET NUMBER], by one of the following methods:

1. Agency Web site: http://docket.epa.gov/rmepub/. EPA prefers receiving comments through this electronic public docket and comment system. Follow the on-line instructions to submit comments.

2. Federal eRulemaking Portal: http://www.regulations.gov. Follow the on-line instructions.

3. E-mail: steckel.andrew@epa.gov.

4. Mail or deliver: Andrew Steckel (Air-4), U.S. Environmental Protection Agency Region IX, 75 Hawthorne Street, San Francisco, CA 94105-3901.

Instructions: All comments will be included in the public docket without change and may be made available online at http://docket.epa.gov/rmepub/, including any personal information provided, unless the comment includes Confidential Business Information (CBI) or other information whose disclosure is restricted by statute. Information that you consider CBI or otherwise protected should be clearly identified as such and should not be submitted through the agency Web site, eRulemaking portal or e-mail. The agency Web site and eRulemaking portal are “anonymous access” systems, and EPA will not know your identity or contact information unless you provide it in the body of your comment. If you send e-mail directly to EPA, your e-mail address will be automatically captured and included as part of the public comment. If EPA cannot read your comment due to technical difficulties and cannot contact you for clarification, EPA may not be able to consider your comment.

Docket: The index to the docket for this action is available electronically at http://docket.epa.gov/rmepub and in hard copy at EPA Region IX, 75 Hawthorne Street, San Francisco, California. While all documents in the docket are listed in the index, some information may be publicly available only at the hard copy location (e.g., copyrighted material), and some may not be publicly available in either location (e.g., CBI). To inspect the hard copy materials, please schedule an appointment during normal business hours with the contact listed in the FOR FURTHER INFORMATION CONTACT section.

FOR FURTHER INFORMATION CONTACT: Francisco Dóñez, EPA Region IX, (415) 972-3956, Donez.Francisco@epa.gov.

SUPPLEMENTARY INFORMATION: Throughout this document, “we,” “us” and “our” refer to EPA.

Table of Contents

I. Why Is EPA Correcting the SIP?

II. What Provision Is Being Deleted?

III. Final Action

IV. Statutory and Executive Order Reviews

I. Why Is EPA Correcting the SIP?

On August 13, 1999, EPA approved South Coast Air Quality Management District (SCAQMD or District) Rule 1171, Solvent Cleaning Operations, as a revision to the South Coast portion of the California SIP. See 64 FR 44134 (August 13, 1999). On October 8, 1999, SCAQMD adopted revisions to Rule 1171. In adopting the revisions to Rule 1171 on October 8, 1999, SCAQMD intended the revised rule, excluding the July 1, 2005 VOC limits specified in subsection (c)(1) of the rule, to be submitted by the California Air Resources Board (CARB) to EPA for approval as a SIP revision, and SCAQMD also committed to submitting a future SIP revision containing the July 1, 2005 VOC limits after the District has reviewed the Technology Assessments pursuant to section (d) of the rule unless SCAQMD by majority vote schedules a hearing to consider amending such limits.

On January 21, 2000, CARB submitted the revised SCAQMD Rule 1171, as adopted by SCAQMD on October 8, 1999, to EPA for approval as a revision to the South Coast portion of the California SIP. This submittal specified that the entire revised Rule 1171 was to be included in the SIP, except for the July 1, 2005 VOC limits specified in subsection (c)(1) of the rule. EPA did not take action on this submittal and considered the January 21, 2000 submittal of Rule 1171 superseded when EPA acted on subsequent submittals of further revised versions of the rule.

When SCAQMD subsequently revised Rule 1171 on August 2, 2002 and November 7, 2003, the District again intended that the 2005 limits not be included into the federally enforceable SIP. However, the corresponding submissions of these revisions from CARB on December 23, 2002 and January 15, 2004, respectively, did not clearly repeat the stipulation that the July 1, 2005 VOC limits were not to be included in the SIP. Therefore, when EPA approved these versions of Rule 1171 into the SIP, the 2005 limits were inadvertently approved into the SIP as well. See 68 FR 33005 (June 3, 2003) and 69 FR 44599 (July 27, 2004).

Earlier this year, SCAQMD brought this error to the attention of CARB and EPA, and SCAQMD submitted a letter dated May 6, 2005 to CARB requesting that CARB request corrective action by EPA to resolve this issue. By letter dated May 24, 2005, CARB submitted a letter to EPA withdrawing the July 1, 2005 VOC limits in SCAQMD Rule 1171 from the California SIP consistent with the District's intent on adopting revisions to the rule on October 8, 1999, August 2, 2002, and November 7, 2003. SCAQMD's May 6, 2005 letter and CARB's May 24, 2005 letter are included in the docket for this rulemaking. We agree with SCAQMD and CARB that a SIP correction action is warranted under these circumstances.

II. What Provision Is Being Deleted?

Section 110(k)(6) of the Clean Air Act (CAA or Act) provides, “Whenever the Administrator determines that the Administrator's action approving, disapproving, or promulgating any plan or plan revision (or part thereof), area designation, redesignation, classification, or reclassification was in error, the Administrator may in the same manner as the approval, disapproval, or promulgation revise such action as appropriate without requiring any further submission from the State.”

For the reasons described above, EPA has determined that the provision listed in the table below was previously approved into the SIP in error. The table below also provides the dates on which the relevant versions of Rule 1171 were submitted by the State and then approved by EPA. We are deleting the specified provision from the SCAQMD's portion of the California SIP under CAA section 110(k)(6).

South Coast Air Quality Management District
Rule | Title | Submittal date | Approval date
1171 | Solvent Cleaning Operations—July 1, 2005 limits in Section (c)(1) | 12/23/02 01/15/04 | 06/03/03 07/27/04

III. Final Action

EPA has reviewed the SIP submittal materials related to the provision listed in the table above and determined that it was previously approved into the applicable California SIP in error. Therefore, EPA is taking action to delete this provision under section 110(k)(6) of the Act, which provides EPA authority to remove this provision without additional State submission. All of the other provisions in SCAQMD Rule 1171, i.e., other than the July 1, 2005 VOC limits in subsection (c)(1), remain federally enforceable as of the effective dates of EPA's final rules published on August 13, 1999, June 3, 2003, and July 27, 2004 and are unaffected by this correction action.

We do not think anyone will object to this deletion, so we are finalizing it without proposing it in advance. However, in the Proposed Rules section of this Federal Register, we are simultaneously proposing deletion of this same provision. If we receive adverse comments by August 1, 2005, we will publish a timely withdrawal in the Federal Register to notify the public that the direct final approval will not take effect and we will address the comments in a subsequent final action based on the proposal. If we do not receive timely adverse comments, the direct final approval will be effective without further notice on August 30, 2005. This will incorporate this correction into the federally enforceable SIP.

IV. Statutory and Executive Order Reviews

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely deletes a provision that had been approved by EPA in error and imposes no additional requirements. Accordingly, the Administrator certifies that this rule will not have a significant economic impact on a substantial number of small entities under the Regulatory Flexibility Act (5 U.S.C. 601 et seq.). Because this rule deletes a provision that had been approved by EPA in error and does not impose any additional enforceable duty, it does not contain any unfunded mandate or significantly or uniquely affect small governments, as described in the Unfunded Mandates Reform Act of 1995 (Pub. L. 104-4).

This rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have federalism implications because it does not have substantial direct effects on the States, on the relationship between the National Government and the States, or on the distribution of power and responsibilities among the various levels of government, as specified in Executive Order 13132 (64 FR 43255, August 10, 1999). This action merely deletes a provision that had been approved by EPA in error, and does not alter the relationship or the distribution of power and responsibilities established in the Clean Air Act. This rule also is not subject to Executive Order 13045 “Protection of Children from Environmental Health Risks and Safety Risks” (62 FR 19885, April 23, 1997), because it is not economically significant as defined in Executive Order 12866, and because the Agency does not have reason to believe the environmental health or safety risks addressed by this rule present a disproportionate risk to children.

This rule does not involve establishment of technical standards, and thus, the requirements of section 12(d) of the National Technology Transfer and Advancement Act of 1995 (15 U.S.C. 272 note) do not apply. This rule does not impose an information collection burden under the provisions of the Paperwork Reduction Act of 1995 (44 U.S.C. 3501 et seq.).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by August 30, 2005. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Incorporation by reference, Intergovernmental relations, Ozone, Reporting and recordkeeping requirements, Volatile organic compounds.

Dated: June 16, 2005.
Wayne Nastri,
Regional Administrator, Region IX.

Part 52, Chapter I, Title 40 of the Code of Federal Regulations is amended as follows:

PART 52—[AMENDED]

1. The authority citation for part 52 continues to read as follows:

Authority: 42 U.S.C. 7401 et seq.

Subpart F—California

2. Section 52.220 is amended by adding paragraphs (c)(311)(i)(A)(2) and (c)(328)(i)(B)(2) to read as follows:

§52.220 Identification of plan.

* * * * *

(c) * * *

(311) * * *

(i) * * *

(A) * * *

(2) Previously approved on June 3, 2003 in paragraph (c)(311)(i)(A)(1) of this section and now deleted without replacement, Subsection (c)(1) (July 1, 2005 VOC limits) of Rule 1171.

* * * * *

(328) * * *

(i) * * *

(B) * * *

(2) Previously approved on July 27, 2004 in paragraph (c)(328)(i)(B)(1) of this section and now deleted without replacement, Subsection (c)(1) (July 1, 2005 VOC limits) of Rule 1171.

* * * * *

[FR Doc. 05-13052 Filed 6-30-05; 8:45 am]

BILLING CODE 6560-50-P